ENVIRONMENTAL PROTECTION AGENCY

[EPA-HQ-OPP-2006-0099; FRL-7763-5]

Notice of Receipt of Requests for Amendments to Delete Uses in Certain Pesticide Registrations

AGENCY: Environmental Protection Agency (EPA).

ACTION: Notice.

SUMMARY: In accordance with section 6(f)(1) of the Federal Insecticide, Fungicide, and Rodenticide Act (FIFRA), as amended, EPA is issuing a notice of receipt of request for amendments by registrants to delete uses in certain pesticide registrations. Section 6(f)(1) of FIFRA provides that a registrant of a pesticide product may at any time request that any of its pesticide registrations be amended to delete one or more uses. FIFRA further provides that, before acting on the request, EPA must publish a notice of receipt of any request in the Federal Register.

DATES: The deletions are effective on March 31, 2006, unless the Agency receives a written withdrawal request on or before March 31, 2006. The Agency will consider withdrawal request postmarked no later than March 31, 2006.

Users of these products who desire continued use on crops or sites being deleted should contact the applicable registrant on or before March 31, 2006.

ADDRESSES: Written withdrawal requests may be submitted electronically, by mail, or through hand delivery/courier. Follow the detailed instructions as provided in Unit I. of the SUPPLEMENTARY INFORMATION. To ensure proper receipt by EPA, it is imperative that you identify docket identification (ID) number EPA-HQ-OPP-2006-0099 in the subject line on the first page of your response.

FOR FURTHER INFORMATION CONTACT: John Jamula, Information Technology and Resources Management Division (7502C), Office of Pesticide Programs, Environmental Protection Agency, 1200 Pennsylvania Ave., NW., Washington, DC 20460-0001; telephone number: (703) 305-6426; e-mail address: jamula.john@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of This Document and Other Related Information?

1. Docket. EPA has established an official public docket for this action under docket identification (ID) number EPA-HQ-OPP-2006-0099. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

Agency Web site: EDOCKET, EPA's electronic public docket and comment system was replaced on November 25, 2005, by and enhanced Federal-wide electronic docket management and comment system located at http://www.regulations.gov/. Follow the on-line instructions.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

C. How and To Whom Do I Submit Written Withdrawal Requests?

1. Electronically—i. E-mail. E-mail your written withdrawal requests to: John Jamula at jamula.john@epa.gov, Attention: Docket ID Number EPA-HQ-OPP-2006-0099.

ii. Disk or CD-ROM. Written withdrawal requests on disk or CD-ROM may be mailed to the address in Unit I.C.2. or delivered by hand or courier to the address in Unit I.C.3., Attention: Docket ID Number EPA-HQ-OPP-2006-0099. These electronic submissions will be accepted in WordPerfect or ASCII file format. Avoid the use of special characters and any form of encryption.

2. By mail. Send your written withdrawal requests to: John Jamula, Information Technology and Resources Management (7502C), Office of Pesticide Programs, Environmental Protection Agency, 1200 Pennsylvania Avenue, NW., Washington, DC 20460-0001, Attention: Docket ID Number EPA-HQ-OPP-2006-0099.

3. By hand delivery or courier. Deliver your written withdrawal requests to: Public Information and Records Integrity Branch (PIRIB), Office of Pesticide Programs (OPP), Environmental Protection Agency, Rm. 119, Crystal Mall #2, 1801 S. Bell St., Arlington, VA, Attention: Docket ID Number EPA-HQ-OPP-2006-0099. Such deliveries are only accepted during the docket's normal hours of operation as identified in Unit I.B.1.

II. What Action is the Agency Taking?

This notice announces receipt by the Agency of applications from registrants to delete uses in certain pesticide registrations. These registrations are listed in Table 1 of this unit by registration number, product name, active ingredient, and specific uses deleted:

Table 1.—Registrations With Requests for Amendments to Delete Uses in Certain Pesticide Registrations
EPA Registration No. | Product Name | Active Ingredient | Delete From Label
000264-00637 | Thiodan Technical | Endosulfan | Cherry Nursery Stock Dip, Peach Nursery Stock Dip, Plum Nursery Stock Dip, Strawberries (Dip Applications Northwest Use Only), Barley, Corn Seed Crop, Oats, Rye, and Wheat
000264-00638 | Phaser 3EC Insecticide | Endosulfan | Barley, Oats, Rye, and Wheat, Cherry, Peach, Plum (Nursery Stock Dip), Strawberries (Northwest Use Only)
000264-00656 | Phaser 50WP Insecticide | Endosulfan | Barley, Oats, Rye, and Wheat, Cherry, Peach, Plum (Nursery Stock Dip), Strawberries (Northwest Use Only)
000264-00658 | Phaser 3EC Insecticide for Use in California | Endosulfan | Barley, Oats, Rye, and Wheat, Cherry, Peach, Plum (Nursery Stock Dip), Strawberries (Northwest Use Only)
000264-00659 | Phaser 50WP Insecticide for Use in California | Endosulfan | Barley, Oats, Rye, and Wheat, Cherry, Peach, Plum (Nursery Stock Dip), Strawberries (Northwest Use Only)
000432-01209 | R and M Garden Dust 5% | Carbaryl | Pets and Agriculture
000432-01210 | R and M Garden Dust 10% | Carbaryl | Pets and Agriculture
000432-01226 | Sevin 80 WSP Carbaryl Insecticide | Carbaryl | Control of Adult Mosquito Applied via ULV Application
000432-01227 | Sevin SL Carbaryl Insecticide | Carbaryl | Control of Adult Mosquito Applied via ULV Application
000432-01237 | BES Garden Dust 10% | Carbaryl | Pets and Agriculture
000432-01239 | BES Garden Dust 5% | Carbaryl | Pets and Agriculture
019713-00091 | Drexel Diazinon Insecticide | Diazinon | Chinese Broccoli, Chinese Cabbage, Chinese Mustard, Chinese Radish, corn, grapes, hopes, sugar beets, and Walnut
019713-00095 | Drexel Diazinon 14G | Diazinon | Beets (red and table), Broccoli, Brussels Sprouts, Cabbage, Carrots, Cauliflower, Collards, Endive, Ginseng, Kale, Melons, Mustard, Onions (bulb and green), Radishes, Spinach, Sugar Beets, Sweet Corn, and tomatoes
019713-00492 | Drexel Diazinon 50WP | Diazinon | Chinese Broccoli, Chinese Cabbage, Chinese Mustard, Chinese Radish, Corn, Grapes, Hops, Sugar Beets, and Walnuts
019713-00523 | Drexel Diazinon Technical AG | Diazinon | Liquid or Wettable Powder Formulations: Chinese Broccoli, Chinese Cabbage, Chinese Mustard, Chinese Radish, corn, grapes, hopes, sugar beets, and Walnut
019713-00523 | Drexel Diazinon Technical AG | Diazinon | Granular Formulations: Beets (red and table), Broccoli, Brussels Sprouts, Cabbage, Carrots, Cauliflower, Collards, Endive, Ginseng, Kale, Melons, Mustard, Onions (bulb and green), Radishes, Spinach, sugar beets, sweet corn, and tomatoes

In addition to the registrations listed in Table 1, the MCPA Task Force will no longer support continued registration of MCPA acid, DMA salt or 2EHE ester as selective herbicides on rice and grain sorghum.

Users of these products who desire continued use on crops or sites being deleted should contact the applicable registrant before March 31, 2006, to discuss withdrawal of the application for amendment. This 30-day period will also permit interested members of the public to intercede with registrants prior to the Agency's approval of the deletion.

Table 2 of this unit includes the names and addresses of record for all registrants of the products listed in Table 1 of this unit, in sequence by EPA company number.

Table 2.—Registrants Requesting Amendments to Delete Uses in Certain Pesticide Registrations
EPA Company No. | Company Name and Address
000264 | Bayer Cropscience LP, 2 T.W. Alexander Drive, Research Triangle Park, NC 27709
000432 | Bayer Environmental Science, A Business Group of Bayer Cropscience LP, P.O. Box 12014, Research Triangle Park, NC 27709
019713 | Drexel Chemical Co, P.O. Box 13327, Memphis, TN 38113-0327
068632 | MCPA Task Force Three, PMB 239, 7474 Creedmoor Road, Raleigh, NC 27613

III. What is the Agency's Authority for Taking this Action?

Section 6(f)(1) of FIFRA provides that a registrant of a pesticide product may at any time request that any of its pesticide registrations be amended to delete one or more uses. The Act further provides that, before acting on the request, EPA must publish a notice of receipt of any such request in the Federal Register. Thereafter, the Administrator may approve such a request.

IV. Procedures for Withdrawal of Request

Registrants who choose to withdraw a request for use deletion must submit the withdrawal in writing to John Jamula using the instructions in Unit I.C. The Agency will consider written withdrawal requests postmarked no later than March 31, 2006.

V. Provisions for Disposition of Existing Stocks

The Agency has authorized the registrants to sell or distribute product under the previously approved labeling for a period of 18 months after approval of the revision, unless other restrictions have been imposed, as in special review actions.

List of Subjects

Environmental protection, Pesticides and pests.

Dated: February 13, 2006.
Arnold E. Layne,
Director, Information Technology and Resource Management Division, Office of Pesticide Programs.

[FR Doc. 06-1849 Filed 2-28-06; 8:45 am]

BILLING CODE 6560-50-S